DEPARTMENT OF TRANSPORTATION

Office of the Secretary

[Docket No. DOT-OST-2011-0177]

RIN 2105-AD96

30-Day Notice of Application for New Information Collection Request OMB No. 2105-XXXX: Nondiscrimination on the Basis of Disability in Air Travel

AGENCY: Office of the Secretary (OST), Department of Transportation (Department) or (DOT).

ACTION: Notice and request for comments.

SUMMARY: In accordance with the Paperwork Reduction Act of 1995 (44 U.S.C. chapter 35, as amended), this notice announces that the Department of Transportation's (DOT) Office of the Secretary (OST) is submitting a request to the Office of Management Budget (OMB) for approval of the new information collections described below. On November 12, 2013, the Department gave 60 day notice of its intent to obtain OMB control numbers authorizing the new information collections in its final rule amending the Air Carrier Access Act (ACAA) implementing regulation, 14 CFR part 382 (part 382), Nondiscrimination on the Basis of Disability in Air Travel. The purpose of this notice is to allow for an additional 30 days of public comment.

DATES: Comments on this notice must be received by October 28, 2015.

ADDRESSES: Your comments should be identified by Docket No. DOT-OST-2011-0177 and may be submitted through one of the following methods:

• Office of Management and Budget, Attention: Desk Officer for U.S. Department of Transportation, Office of the Secretary of Transportation, 725 17th Street NW., Washington, DC 20503,

• email: oira_submission@omb.eop.gov.

• Fax: (202) 395-5806.

FOR FURTHER INFORMATION CONTACT: Maegan L. Johnson or Blane A. Workie, Office of the General Counsel, Office of the Secretary, U.S. Department of Transportation, 1200 New Jersey Avenue SE, Washington, DC, 20590, 202-366-9342 (Voice), 202-366-7152 (Fax), or Maegan.johnson@dot.gov (Email). Arrangements to receive this document in an alternative format may be made by contacting the above-named individuals.

SUPPLEMENTARY INFORMATION:

Background: The ACAA, 49 U.S.C. 41705, prohibits discriminatory treatment of persons with disabilities in air transportation. On November 12, 2013, the Department published a final rule amending its ACAA regulation, 14 CFR part 382, to require airlines to ensure that the public facing Web pages on their primary Web sites are accessible to individuals with disabilities. 78 FR 67882 (November 12, 2013). Covered carriers are U.S. and foreign air carriers that operate at least one aircraft having a designed seating capacity of more than 60 passengers and own or control a primary Web site that markets passenger air transportation or a tour, or tour component that must be purchased with air transportation, to the general public in the United States.¹ The final rule established two new information collection requirements that are the subject of this notice. First, by December 12, 2015, carriers must provide an online mechanism for passengers to request disability accommodation services (e.g., enplaning/deplaning assistance, deaf/hard of hearing communication assistance, escort to service animal relief area, etc.) for a particular flight. Second, by December 12, 2016, carriers must ensure that when a user activates a link on a carrier's primary Web site to embedded third-party software or to an external Web site, a disclaimer is displayed notifying the user that the application or Web site may not be accessible. In the preamble of the final rule, the Department described and invited interested persons to submit comments on any aspect of these new information collections for 60 days. The Department received no comments on the information collections. This 30 notice is intended to give the public additional time to comment.

¹ While there are approximately 175 U.S. and foreign air carriers that conduct passenger-carrying service to, from, or in the United States with at least one aircraft having a designed seating capacity of more than 60 seats, not all of those carriers have a primary Web site that markets passenger air transportation to the general public in the U.S. After conducting a sample review of carrier Web sites, the Department estimates that approximately 135 of those 175 carriers are subject to the Department's Web-accessibility requirements.

1. Online Request for Disability Accommodation

Type of Request: This is a new information collection.

Form Number: There are no OST forms associated with this collection.

Description of the need for the information and proposed use: Each carrier will provide a mechanism on its Web site for passengers to request a disability accommodation service for a future flight and provide advance notice of their request. Carriers may, but need not, require passengers to include contact information on the form in order to follow-up and request more specific information about the passengers' accommodation needs. Carriers may also use the aggregate data from the online service requests to understand and better plan for the volume and types of service requests they receive across time periods and routes, but also are not required to do so.

While the content and design of the online service request form is up to the carriers, the Department anticipates that each covered U.S. and foreign carrier that markets scheduled air transportation to the general public in the United States would incur initial costs associated with developing and reviewing a design and implementation plan for the request form, developing, coding, and integrating the form into the Web site, as well as testing, debugging, and connecting the form with a backend database to store the information. The revised final regulatory analysis (FRA) estimated that it will take an average of 32 labor hours per carrier to develop, implement, integrate, connect, and test the online request form. Should carrier associations or some other entity develop a common request form that all carriers could adapt and incorporate to their Web sites, the initial costs per carrier would be reduced.

Respondents: Certificated U.S. and foreign air carriers operating to, from, and within the United States that operate at least one aircraft having a seating capacity of more than 60 passengers and own or control a primary Web site that markets air transportation to the general public in the U.S.

Estimated Number of Respondents: 135 U.S. and foreign carriers.

Estimated Annual Burden on Respondents: 32 hours..

Estimated Total Annual Burden: 4,320 hours.

Frequency: One-time requirement.

2. Web Site Accessibly Disclaimer Notice

Type of Request: This is a new information collection.

Form Number: There are no OST forms associated with this collection.

Description of the need for the information and proposed use:

In order to be in conformance with the accessibility standard required by the final DOT rule, carriers must provide a disclaimer notice for each link on their primary Web site that enables a user to access software or an external Web site that is not in the carrier's control. The disclaimer notice must be activated the first time a user clicks the link and must notify the user that the application/Web site is not within the carrier's control and may not follow the same accessibility policies as the primary Web site. The Department anticipates that each covered U.S. and foreign carrier that markets scheduled air transportation to the general public in the United States will incur costs associated with identifying all links on their Web sites that may require a disclaimer such as developing and reviewing the design and language for the disclaimer notice, as well as developing, testing, and deploying the code to the appropriate Web pages.

The incremental labor hours associated with providing the required disclaimer may vary depending on the number of links on the Web site to which this requirement applies. The FRA estimated that it will take an average of 6 labor hours per carrier to identify the links and then develop, test, and deploy the disclaimer notice on the Web site.

Estimated Number of Respondents: 135 U.S. and foreign carriers.

Estimated Annual Burden on Respondents: 6 hours.

Estimated Total Burden: 810 hours.

Frequency: One-time requirement.

Issued in Washington, DC, on September 21, 2015.
Claire W. Barrett,
Chief Privacy & Information Asset Officer.

[FR Doc. 2015-24562 Filed 9-25-15; 8:45 am]

BILLING CODE 4910-9X-P